DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and U.S. Fish and Wildlife Service and National Oceanic and Atmospheric Administration (NOAA) National Marine Fisheries Service.

SUMMARY: The FHWA, on behalf of Caltrans, is issuing this notice to announce actions taken by Caltrans, U.S. Fish and Wildlife Service, and NOAA National Marine Fisheries Service that are final within the meaning of 23 U.S.C. 139(l)(1). The actions relate to a proposed highway project known as South Coast 101 HOV Lanes that adds one lane in each direction on U.S. 101 between Bailard Avenue in the City of Carpinteria and Cabrillo Boulevard in the City of Santa Barbara, in the County of Santa Barbara, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 6, 2015. If the Federal law that authorizes judicial review of a claim provides a time period of less than 150 days for filing such claim, then that shorter time period still applies.

FOR FURTHER INFORMATION CONTACT: For Caltrans: Jason Wilkinson, Environmental Branch Chief, Caltrans, 50 Higuera Street, San Luis Obispo, CA 93401, Monday through Friday 8 a.m. to 5 p.m., (805) 542-4663 or Jason.wilkinson@dot.ca.gov. For U.S. Fish and Wildlife Service: Steve Henry, Deputy Field Supervisor, Ventura Fish and Wildlife Office, 2493 Portola Road, Suite B, Ventura, CA 93003, Monday through Friday 8 a.m. to 5 p.m. (805) 644-1766, ext 307 or steve.henry@fws.gov. For NOAA National Marine Fisheries Service: Rodney McInnis, Administrator, Southwest Region, 501 W. Ocean Blvd., Suite 4200, Long Beach, CA 90802-4213, Monday through Friday 8 a.m. to 5 p.m. (562) 980-4005.

SUPPLEMENTARY INFORMATION: Effective July 1, 2007, the FHWA assigned, and the Caltrans assumed, environmental responsibilities for this project pursuant to 23 U.S.C. 327. Notice is hereby given that the Caltrans, U.S. Fish and Wildlife Service, and NOAA National Marine Fisheries Service have taken final agency actions subject to 23 U.S.C. 139(l)(1) by issuing licenses, permits, and approvals for the following highway project in the State of California: The project will construct one part-time high occupancy vehicle (HOV) lane in each direction on U.S. 101 for approximately 10 miles between the City of Carpinteria and Cabrillo Boulevard in the City of Santa Barbara. The project would also reconstruct two interchanges at Sheffield Drive and Cabrillo Boulevard, including replacing the left ramps with new right side ramps. The project limits begin 0.22 miles south of the Bailard Avenue overcrossing in the City of Carpinteria to Sycamore Creek in the City of Santa Barbara. The primary purpose of the project is to reduce existing congestion in the 101 corridor. The actions by the Federal agencies, and the laws under which such actions were taken, are described in the Environmental Assessment/Finding of No Significant Impact (EA/FONSI) for the project, approved on August 26, 2014 and in other documents in the FHWA project records. The EA/FONSI and other project records are available by contacting Caltrans as provided above. The Caltrans EA/FONSI can be viewed and downloaded from the Caltrans project Web site at: http://www.dot.ca.gov/dist05/projects/sb_101hov/index.html or viewed at four public libraries in the project area. This notice applies to all Federal agency decisions as of the issuance date of this notice and all laws under which such actions were taken, including but not limited to:

1. General: National Environmental Policy Act (NEPA) [42 U.S.C. 4321-4335].

2. Air: Clean Air Act [23 U.S.C. 109 (j) and 42 U.S.C. 7521(a)].

3. Historic and Cultural Resources: National Historic Preservation Act of 1966, as amended (NHPA), 16 U.S.C. 470 (f) et seq.]; Archeological Resources Protection Act of 1977 [16 U.S.C. 470(aa)-470 (ll)]; Archeological and Historic Preservation Act [16 U.S.C. 469-469(c)]; Native American Grave Protection and Repatriation Act (NAGPRA) [25 U.S.C. 3001-3013].

4. Wildlife: Federal Endangered Species Act [16 U.S.C. 1531-1543]; Fish and Wildlife Coordination Act [16 U.S.C. 661-666(C); Migratory Bird Treaty Act [16 U.S.C. 760c-760g].

5. Social and Economic: NEPA implementation [23 U.S.C. 109(h)]; Civil Rights Act of 1964 [42 U.S.C. 2000(d)-2000(d)(1)].

6. Wetlands and Water Resources: Clean Water Act [33 U.S.C. 1344].

7. Executive Orders: E.O. 11990 Protection of Wetlands; E.O. 13112 Invasive Species; E.O. 11988 Floodplain management; E.O. 12898 Federal actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: September 3, 2014.
Jermaine Hannon,
Acting Director, Project Delivery, Federal Highway Administration, Sacramento, California.

[FR Doc. 2014-21437 Filed 9-8-14; 8:45 am]

BILLING CODE 4910-RY-P